FEDERAL MARITIME COMMISSION

Notice of Agreements Filed

The Commission hereby gives notice of the filing of the following agreements under the Shipping Act of 1984. Interested parties can review or obtain copies of agreements at the Washington, DC offices of the Commission, 800 North Capitol Street, N.W., Room 940. Interested parties may submit comments on an agreement to the Secretary, Federal Maritime Commission, Washington, DC 20573, within 10 days of the date this notice appears in the Federal Register.

Agreement No.: 009831-021

Title: New Zealand/United States Container Lines Association

Parties:

P&O Nedlloyd Limited;

Hamburg-Sud;

Australia-New Zealand Direct Line;

and Lykes Lines Limited, LLC

Synopsis: The amendment adds Lykes Lines Limited, LLC as a party and corrects the business address of Australia-New Zealand Direct Line.

Agreement No.: 011117-031

Title: United States/Australasia Discussion Agreement

Parties:

P&O Nedlloyd Limited;

Australia-New Zealand Direct Line; Contship Containerlines; Hamburg-Sud; Compagnie Maritime Marfret, S.A.;

Wallenius Wilhelmsen Lines AS;

CMA CGM, S.A.;

Fesco Ocean Management Limited;

A.P. Moller-Maersk A/S;

and Lykes Lines Limited, LLC

Synopsis: The amendment adds Lykes Lines Limited, LLC to the agreement; corrects the business address of Australia-New Zealand Direct Line; and updates Maersk's corporate name.

Agreement No.: 011268-015

Title: New Zealand/United States Interconference and Carrier Discussion Agreement

Parties:

New Zealand/United States Container Lines Association; P&O Nedlloyd Limited;

Hamburg-Sud;

LauritzenCool AB;

Australia-New Zealand Direct Line;

FESCO Ocean Management Ltd.,

A.P. Moller-Maersk A/S;

and Lykes Lines Limited, LLC

Synopsis: The amendment adds Lykes Lines Limited, LLC to the agreement; corrects the business address of Australia-New Zealand Direct Line; and updates Maersk's corporate name.

Agreement No.: 011275-014

Title: Australia/United States Discussion Agreement

Parties:

Hamburg-Sud; P&O Nedlloyd Limited;

Australia-New Zealand Direct Line;

LauritzenCool AB;

Seatrade Group NV;

FESCO Ocean Management Inc.;

A.P. Moller-Maersk A/S; and Lykes Lines Limited, LLC

Synopsis: The amendment adds Lykes Lines Limited, LLC as a party to the agreement; updates the name of Maersk; and corrects the addresses of ANZDL, LauritzenCool, and Seatrade.

Agreement No.: 011407-006

Title: Australia/United States Containerline Association

Parties:

Hamburg-Sud;

P&O Nedlloyd Limited;

Australia-New Zealand Direct Line;

and Lykes Lines Limited, LLC

Synopsis: The amendment adds Lykes Lines Limited, LLC as a party to the agreement and corrects the addresses of Hamburg-Sud and ANZDL.

Agreement Nos.: 011510-022

Title: West African Discussion Agreement

Parties: Atlantic Bulk Carriers, Ltd.;

HUAL A/S;

and P&O Nedlloyd Limited

Synopsis: The amendment deletes P&O Nedlloyd Limited as a party to the agreement effective November 21, 2003.

Agreement No.: 011665-005

Title: Specialized Reefer Shipping Association

Parties:

LauritzenCool AB, NYK Star Reefers,

and Seatrade Group NV

Synopsis: The amendment deletes NYK Star Reefers as a party to the agreement.

Agreement No.: 011866

Title: NYK/MP Line Cooperative Working Agreement

Parties: Nippon Yusen Kaisha and MP Line de Mexico,

S.A. de C.V.

Synopsis: The proposed agreement would authorize NYK to charter a ro-ro vessel to MP Line to operate generally between Florida and the U.S. Gulf coast, on the one hand, and Mexico, East coast of Central America, the North coast of South America, and the Caribbean, on the other hand. The agreement would also authorize MP Line to charter space back to NYK on the vessel.

By Order of the Federal Maritime Commission.
Dated: October 31, 2003.
Bryant L. VanBrakle,
Secretary.

[FR Doc. 03-27856 Filed 11-4-03; 8:45 am]

BILLING CODE 6730-01-P